ELECTION ASSISTANCE COMMISSION

Federal Advisory Committee Act; Board of Advisors Charter Renewal

AGENCY: Election Assistance Commission.

ACTION: Notice of Charter Renewal.

SUMMARY: In accordance with the Federal Advisory Committee Act (Pub. L. 92-463), the purpose of this notice is to announce that the Election Assistance Commission (EAC) has renewed the charter for the Board of Advisors for a two-year period through December 14, 2012. The Board of Advisors is a federal advisory committee under the Federal Advisory Committee Act.

DATES: Renewed through December 14, 2012.

ADDRESSES: Election Assistance Commission, 1201 New York Avenue, NW., Suite 300, Washington, DC 20005.

FOR FURTHER INFORMATION CONTACT: Thomas R. Wilkey, Designated Federal Officer, at (202) 566-3100. E-mail: boardofadvisors@eac.gov.

SUPPLEMENTARY INFORMATION: The Board of Advisors is a Federal advisory committee created by statute whose mission is to advise EAC through review of the voluntary voting system guidelines (VVSG) described in Title II Part 3 of HAVA when EAC proposes updates to the VVSG; through review of the voluntary guidance described under Title III subtitle B of HAVA; and through review of the best practices recommendations contained in the report submitted under Section 242(b) of Title II of HAVA.

Thomas R. Wilkey,
Executive Director, U.S. Election Assistance Commission.

[FR Doc. 2010-31938 Filed 12-20-10; 8:45 am]

BILLING CODE 6820-KF-P